DEPARTMENT OF LABOR

Employment and Training Administration

Proposed Information Collection Request Submitted for Public Comment and Recommendations; OMB Approval for Work-Flex State Plan Submission and Reporting Requirements

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before February 28, 2005.

ADDRESSES: Send comments to Christine Kulick, Chief, Division of One-Stop Operations, U.S. Department of Labor, 200 Constitution Avenue NW., Room S-4231, Washington, DC 20210. Telephone: 202-693-3045 (this is not a toll-free number); fax: 202-693-3015; or e-mail: Kulick.christine@dol.gov.

FOR FURTHER INFORMATION CONTACT: Christine Kulick, Chief, Division of One-Stop Operations, U.S. Department of Labor, 200 Constitution Avenue NW., Room S-4231, Washington, DC 20210. Telephone: 202-693-3045 (this is not a toll-free number); fax: 202-693-3015; or e-mail: Kulick.christine@dol.gov.

SUPPLEMENTARY INFORMATION:

I. Background

Section 192 of the Workforce Investment Act (Pub. L. 105-220, August 7, 1998) permits States to apply for a workforce flexibility (Work-Flex) waiver authority to implement reforms to their workforce investment systems in exchange for program improvements. The Act provides that the Secretary may grant Work-Flex waiver authority for a period of up to five years pursuant to a Work-Flex Plan submitted by a State.

Under Work-Flex, Governors are granted the authority to approve requests submitted by their local areas to waive certain statutory and regulatory provisions of WIA Title I programs. States may also request from the Secretary waivers of certain requirements of the Wagner-Peyser Act (Sections 8-10) and certain provisions of the Older Americans Act applicable to State agencies that administer the Senior Community Service Employment Program (SCSEP).

The intent of the Work-Flex provision is to authorize States and Local Areas the operational flexibility they need to improve employment and training productivity for adult, dislocated, and youth populations. One of the underlying principles of Work-Flex is that it will result in improved performance outcomes for persons served and that waiver authority will be granted in consideration of improved performance.

II. Desired Focus of Comments

Currently, the Department is soliciting comments concerning the proposed extension of the collection which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

A copy of the proposed ICR can be obtained by contacting the office listed above in the addressee section of this notice.

III. Current Actions

Type of Review: Extension.

Agency: Employment and Training Administration.

Title: Work-Flex State Plan Submission and Reporting Requirements.

OMB Number: 1205-0432.

Record Keeping: Consistent with 29 CFR 97.42, records and supporting documentation should be retained for three years on a Federal fiscal year basis. The retention period for quarterly reports associated with a fiscal year status on the date the State submits its last quarterly report for that fiscal year. The retention period for the State Work-Flex Plan starts on the last day of the fiscal year for which it was initially approved or subsequently modified, whichever is later.

Affected Public: State and local governments.

Cite/Reference/Form/etc: Workforce Investment Act (WIA) of 1998 (Pub. L. 105-220, § 192); 20 CFR Part 652 et al, WIA Final Rules, (published at 64 FR 49294 (Aug. 11, 2000)); Training and Employment Guidance Letter (TEGL) No. 6-99, dated Feb. 22, 2000.

Form/activity | Total respondents | Frequency | Total responses | Average time per response (in hours) | Burden hours
State Plan | 5 | Annually | 5 | 160 | 800
Quarterly Report | 5 | Quarterly | 20 | 8 | 160.
Totals |  |  | 25 |  | 960.

Total Burden Cost (operating/maintaining): $24,445.

Comments submitted in response to this comment request will be summarized and/or included in the request for the Office of Management and Budget approval of the ICR; they will also become a matter of public record.

Dated this 23rd Day of December, 2004.
Dennis I. Lieberman,
Acting Administrator, Office of Workforce Investment.

Work-Flex State Plan Instructions

States requesting designation as a Work-Flex State must submit a Work-Flex Plan which includes descriptions of:

a. The process by which local areas in the State may submit and obtain approval by the State of applications for waivers of requirements applicable under Title I of WIA, including provisions for public review and comment on local area waiver applications.

b. The statutory and regulatory requirements of Title I that are likely to be waived by the State under the plan.

c. The requirements applicable under Sections 8 through 10 of the Wagner-Peyser Act that are proposed to be waived, if any.

d. The statutory and regulatory requirements of the Older Americans Act of 1965 applicable to State agencies on aging with respect to administration of the Senior Community Service Employment Program (SCSEP) that are proposed to be waived, if any.

e. The outcomes to be achieved by the waiver authority including, where appropriate, revisions to adjusted levels of performance included in the State or Local Plan under Title I of WIA.

f. Special measures (in addition to current procedures) to be taken to ensure appropriate accountability for Federal funds in connection with the waivers.

g. Prior to submitting a Work-Flex Plan to the Secretary for approval, the State must provide notice to all interested parties and to the general public adequate notice and a reasonable opportunity for comment on the waivers proposed to be implemented. The plan should describe the process used for ensuring meaningful public comment. Include a description of the Governor's and the State Workforce Investment Board's involvement in drafting, reviewing and commenting on the Plan. Describe the actions taken to collaborate in the development of the State Work-Flex Plan with local chief elected officials, local workforce investment boards and youth councils, the business community (including small businesses), labor organizations, educators, vocational rehabilitation agencies, and other interested parties, such as service providers, welfare agencies, community and faith-based organizations, transportation providers and other stakeholders.

Work-Flex Quarterly Report Instructions

Report for each waiver granted:

1. Waiver # (assigned by State)

2. Date received

3. Date granted

4. Local Area(s) requesting waiver

5. Purpose (brief statement)

6. Regulation/statute affected.

Summary (year-to-date):

1. # of waivers granted

2. # of waivers denied

3. # of waivers pending

4. Total waivers received.

[FR Doc. 04-28574 Filed 12-29-04; 8:45 am]

BILLING CODE 4510-30-P